DEPARTMENT OF HEALTH AND HUMAN SERVICES

National Institutes of Health

Eunice Kennedy Shriver National Institute of Child Health and Human Development; Amended Notice of Meeting

Notice is hereby given of a change in the meeting of the Board of Scientific Counselors, NICHD, December 7, 2012, 8 a.m. to December 7, 2012, 4 p.m., National Institutes of Health, Building 31, 31 Center Drive, Room 2A48, Bethesda, MD, 20892 which was published in the Federal Register on October 23, 2012, 2012-26023.

The meeting is being changed from partially closed to closed, in order to allow full discussion of laboratory evaluations and other personnel-related matters.

Dated: November 13, 2012.
Michelle Trout,
Program Analyst, Office of Federal Advisory Committee Policy.

[FR Doc. 2012-28163 Filed 11-19-12; 8:45 am]

BILLING CODE 4140-01-P